DEPARTMENT OF TRANSPORTATION

Federal Motor Carrier Safety Administration

[Docket No. FMCSA-2020-0081]

Inspection, Repair and Maintenance; Inspector Qualifications; Intermodal Association of North America (IANA) Application for an Exemption

AGENCY: Federal Motor Carrier Safety Administration (FMCSA), DOT.

ACTION: Notice of final disposition.

SUMMARY: The Federal Motor Carrier Safety Administration (FMCSA) announces its decision to grant Intermodal Association of North America's (IANA) application for a limited 5-year exemption to allow individuals who complete a training program consistent with a set of Intermodal Recommended Practices (IRPs) and associated requirements that has been developed by IANA to be considered a qualified inspector or qualified brake inspector for intermodal equipment (IME) under the Federal Motor Carrier Safety Regulations (FMCSR), in lieu of having one year of training or experience or a combination thereof prior to becoming a certified inspector/brake inspector. The Agency has determined that granting the exemption to allow individuals who complete a performance-based training program consistent with the IRPs and associated requirements developed by IANA, instead of the time-based training and experience requirements specified in the FMCSRs, would likely achieve a level of safety equivalent to or greater than the level of safety provided by the regulation.

DATES: This exemption is effective August 18, 2020 and ending August 18, 2025.

FOR FURTHER INFORMATION CONTACT: Mr. Luke Loy, Vehicle and Roadside Operations Division, Office of Carrier, Driver, and Vehicle Safety, MC-PSV, Federal Motor Carrier Safety Administration, 1200 New Jersey Avenue SE, Washington, DC 20590-0001; (202) 366-0676; luke.loy@dot.gov.

Docket: For access to the docket to read background documents or comments submitted to notice requesting public comments on the exemption application, go to www.regulations.gov at any time or visit Docket Operations, Room W12-140 on the ground level of the West Building, 1200 New Jersey Avenue SE, Washington, DC, between 9 a.m. and 5 p.m., ET, Monday through Friday, except Federal holidays. To be sure someone is there to help you, please call (202) 366-9317 or (202) 366-9826 before visiting Docket Operations. The on-line Federal document management system is available 24 hours each day, 365 days each year. The docket number is listed at the beginning of this notice.

SUPPLEMENTARY INFORMATION:

Background

FMCSA has authority under 49 U.S.C. 31136(e) and 31315 to grant exemptions from certain parts of the FMCSRs. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

IANA Application for Exemption

IANA applied for an exemption that would allow individuals who complete a training program consistent with a set of IRPs and associated requirements developed by IANA to be considered (1) a qualified inspector for the purpose of conducting periodic (annual) inspections of IME under 49 CFR 396.17, and (2) a qualified brake inspector under 49 CFR 396.25 for the purpose of conducting brake system inspection, maintenance, service, or repair of IME. A copy of the application is included in the docket referenced at the beginning of this notice.

The FMCSRs require individuals performing annual inspections of commercial motor vehicles (CMVs), including IME, or inspections, maintenance, repairs, or service to the brake systems on CMVs (including IME) to be properly qualified to perform such inspections. Under §§ 396.19(a)(3)(ii) and 396.25(d)(3)(ii), an individual who has training or experience or a combination thereof totaling at least one year as outlined in those sections is considered to be qualified to conduct those inspections.

In its application, IANA states that:

. . . a performance-based approach to training can be as effective, if not more so, than time-based training. An exemption to the current time-based requirement is therefore warranted in order to offer a performance-based alternative. The program that IANA has developed, including broad-based input from experts across the industry, coupled with real-world, operational experience, provides exceptional guidance and instruction for inspectors to meet FMCSA's ultimate goal, which is to have safe and roadworthy intermodal equipment on the highways.

Specifically, IANA's Mechanics Training Task Force, part of its Maintenance & Repair Committee, has developed a series of five discrete elements described in greater detail below that together will serve to provide training developers and providers with the necessary content to deliver comprehensive training programs and assessments.

(1) IRPs. IANA has developed a group of 53 IRPs that are individual procedures relating to the inspection, repair, or replacement of components on IME. The IRPs have been packaged into a Guide titled “The IANA Guide to Chassis Inspection and Repair” that includes additional resources in Appendices that support the IRPs. The IRPs have been grouped into nine separate sections based principally on the systems and components that exist on IME as follows: General Procedures and Auxiliary Equipment; Electrical and Lamps; Tires and Wheels; Axles; Couplers and Hitches; Frames; Suspensions; Brakes; and Welding/Fabrication. Generally, each IRP includes:

• Background and Context. This section provides an explanation of the need for the IRP and a brief overview of the content.

• Terms and Definitions. This section contains a list of specific terms and their meaning within the context of the IRP, over and above those found in the Glossary (Appendix B of the Guide). It also provides terms and definitions that are specific to the procedures in the IRP.

• Recommended Tools, Supplies and Equipment. This section lists the necessary items that should be available to mechanics in performing the procedure in the IRP.

• Procedures. This section contains detailed, step-by-step instructions for performing each specific procedure.

• Additional Information. This section lists resources that are relevant to and further inform the content of the IRP.

(2) Competency Documents. The Competency Documents are a set of 53 documents that are based on the IRPs, and that (a) include specific statements that correspond to each individual IRP, and (b) outline the specific knowledge and skills necessary for inspectors/mechanics to possess in order to successfully execute the procedures outlined in each IRP. The material provided in these Competency Documents serves to assist training providers as the foundation for the development of the training curriculum and content, as well as assisting in the development and delivery of inspector knowledge and skills assessments.

(3) Task Lists. Each Competency Document also includes a “Task List.” The items in the Task Lists represent the practical elements involved in assessing the proficiency of the inspectors/mechanics when conducting the procedures outlined in each of the IRPs. In addition to individuals successfully understanding the knowledge items outlined in the Competency Documents, each individual undertaking the training also needs to demonstrate proficiency in the items outlined in the Task Lists. These demonstrations occur under the oversight of a qualified inspector prior to the individual being able to perform the procedures in the IRP going forward as a qualified inspector.

(4) Question Matrix. IANA's Mechanics Training Working Group also developed a matrix to identify the number of test questions to be considered relative to each IRP when conducting assessments of an individual's knowledge level. The matrix, when coupled with the Competency Documents, forms the basis for developing test questions for an individual's knowledge assessments. These assessments are to be used in conjunction with modules in training courses. However, they will also serve to assess an individual's knowledge prior to taking training (e.g., for “new” inspectors/mechanics) and to assist with gap analysis and identifying additional training needs for the existing workforce of inspectors/mechanics.

(5) Training Hours. While IANA believes that the overall program should be primarily competency-based, IANA also recognizes that temporal parameters must be established for the overall course schedule. Deliberations within IANA's Maintenance & Repair Committee on this point focused first on developing a range of time for full course delivery on all 53 of the IRPs, from a minimum of 324 hours to a maximum of 480 hours (inclusive of classroom and hands-on instruction). This range was established based on the content as well as the level of knowledge, proficiency, and experience of the inspector prior to taking the course. Individuals having some prior level of experience and competency would be on the lower end of the time scale, and those who are new to the job would be on the high end of the scale. IANA also estimated that approximately one-third (⅓) of the instruction should be classroom-based, and two-thirds (⅔) of the instruction should be laboratory/hands-on based. The Committee resolved that, optimally, the course timing should be 480 hours for a new entrant to the business.

IANA states that “. . . a mechanic who has successfully completed a training program based on the IRPs developed through IANA will possess the skills and knowledge to be a highly proficient and efficient inspector and will not appreciably benefit (if at all) from the current 12-month requirement.” The exemption would apply to all individuals who successfully complete a training program based on the IRPs and associated requirements developed by IANA as described above. IANA believes that granting the exemption to permit use of the IRP-based training program curriculum would maintain a level of safety that is equivalent to, or greater than, the level of safety achieved without the exemption, and that “safety will ultimately be enhanced.”

Request for Comments

FMCSA published a notice of the application in the Federal Register on April 3, 2020, and asked for public comment (85 FR 19055). The Agency received 20 comments, from the American Trucking Associations (ATA), the American Association of Railroads (AAR), and 18 individuals.

ATA commended IANA for taking time to develop IRPs consistent with the needs of the intermodal sector of the trucking industry, and stated that it “supports this exemption request for FMCSA to allow intermodal chassis mechanic training programs—consistent with IANA's IRPs—to be able to certify students as qualified inspectors or brake inspectors without having the required one year of training or experience.” ¹ ATA stated that a technician shortage exists in the U.S. trucking industry, and “The trucking industry could reduce this workforce shortage if FMCSA would allow: (1) students to complete training programs from institutes that base curricula from qualified trade organizations; and (2) permit self-certification by qualified training institutes with programs specific to commercial vehicle inspections, including brake system inspections.” Additionally, ATA stated that properly trained technicians detect, correct and prevent the development of equipment failures, and “The trucking industry could decrease the vehicle OOS rate (decreasing vehicle downtime) while improving traffic safety if FMCSA allowed industry recognized RP-based training programs to equal the experience minimum.” Finally, ATA stated that:

¹ In supporting IANA's exemption request, ATA recommends FMCSA work with its Technology & Maintenance Council to further apply qualified training programs for all types of commercial vehicle equipment so that the entire trucking industry and overall transportation industry may benefit from industry recognized RP-based training programs.

One year of experience or training for a commercial vehicle technician is arbitrary and can be misjudged. Fleets and service providers in the trucking industry are diverse and can perform business with their employees through multifaceted roles. For example, new entrants to truck maintenance may have a job for more than half the year to clean shop and move trucks around the yard. A new employee may be hired to do one non-PMI [preventive maintenance inspection] related job and be tasked with many PMI jobs 11 months after being hired. Although ATA's experience with fleets and service providers meet or exceed the FMCSRs for inspector qualifications (e.g., an apprentice working alongside a PMI professional technician for at least one year and routinely perfecting mistakes) this may not be the case for all motor carriers. Focusing an industry recognized RP-based training program on students/new techs is imperative to the experience and training they would have before starting their first real-world PMI. In addition to experienced and well-trained new technician applicants, students would be qualified well under the one-year requirement if FMCSA would exempt industry recognized RP-based training programs.

AAR supports “IANA's proposed use of a modern, performance-based, training program in lieu of FMCSA's existing one-year experience requirement,” and stated:

A formalized education program could serve as a superior and more efficient alternative to qualify an inspector than does the one-year experience requirement in 49 CFR part 396. A graduate of IANA's program must prove proficiency and knowledge by demonstrating the skills required for each job he or she performs. FMCSA should allow the use of industry-developed best practices in the form of the IRPs developed by IANA in this matter to help to ensure consistent standards are met in qualifying chassis inspectors, and that the potential to improve safety across the intermodal industry is realized.

Eighteen individuals provided comments regarding the IANA application. One commenter stated that Federal Aviation Administration (FAA) regulations “allow aspiring aircraft mechanics a path to certification outside of strictly practical (i.e. on the job) experience by graduating from an FAA-approved aviation maintenance technician program—thereby gaining certification and doing the same work as their strictly on-the-job-experienced counterparts up to two years sooner.” The commenter noted that if this alternative approach works for the FAA, “it should [work] for the FMCSA given the community of safety-minded intermodal industry experts behind this request for temporary exemption.” Several commenters noted that mechanics who complete the IANA training and certification process will be far more reliable and consistent than someone who simply works for 1 year in a repair environment. Commenters noted that training programs based on the IANA IRPs will be heavily focused on hands-on training and assessments that standardize competencies and provide an expectation of the skills required for the certification. Commenters also noted that experience-based learning is continuous and adds value to competencies, but stated that mechanics working without the foundation of an education regarding the equipment—specifically on IME—cannot ensure the safety or standard levels of performance of that equipment. Multiple commenters believe that with a combination of hands-on training and a dedicated training program, a technician can become competent and thorough within a much shorter time than the 1 year of training and/or experience required by the FMCSRs. One commenter noted that a validation of a mechanic's abilities is much safer than an arbitrary waiting period (without dedicated training and an evaluation of that mechanic's abilities).

One commenter did not support the IANA application, stating “There exists no data suggesting that Intermodal Association of North America, or anyone for that matter, has developed a miraculous training program that somehow, is able to improve upon and replace 12-months of actual real-life work experience. Common sense and logic tells us that any training program that claims to replace 12-months of real-life, hands-on work experience with an unspecified amount of time in their vague ‘training program’ is fraudulent.” Other commenters stated that the current requirement that an individual have a combination of training and/or experience that totals at least 1 year before being considered qualified should be retained, and that the 1-year time period is necessary to ensure that inspectors fully understand the specifics of the equipment and the tasks associated with inspecting the equipment. One commenter stated that the application should not be granted because brake violations continue to be some of the most often cited violations during inspections, and as such, there needs to be additional focus regarding the fundamental operation of brake systems from a training and continuous education standpoint.

FMCSA Decision

The FMCSA has evaluated the IANA application, and the comments received. For the reasons discussed below, FMCSA has determined that granting the exemption to allow individuals who successfully complete a performance-based training program consistent with the IRPs and associated requirements developed by IANA, instead of the time-based training and experience requirements specified in the FMCSRs, would likely achieve a level of safety equivalent to or greater than the level of safety provided by the regulation.

In 2015, IANA established a Mechanics Training Task Force as part of its Maintenance & Repair Committee. As an initial step, the Task Force evaluated the processes necessary for the inspection and repair of intermodal equipment, and developed recommended practices and training for the mechanics who inspect and work on the equipment. These recommendations were based on IANA's analysis of FMCSA inspection data for intermodal equipment over a 5-year period that identified specific vehicle components that routinely are the subject of out-of-service violations.

IANA stated that the goal of the Task Force was to develop processes and procedures to assist the industry in complying with the requirements in part 393, part 396, and Appendix G relating to intermodal equipment. Specifically, the Task Force developed (1) a framework for the development of recommended practices for the inspection and repair of IME, (2) a set of IRPs to guide the inspection and repair of IME, and (3) a training methodology and set of guidelines that increases and enhances the skills of an individual in the inspection and repair of IME. The Task Force included representation from all key stakeholder groups, and developed the work product as outlined in the three areas discussed above over the course of 3 years. IANA's Maintenance & Repair Committee, which includes additional stakeholder representatives from across the industry, ultimately reviewed and approved the Task Force's work product.

FMCSA has reviewed the IANA Guide that includes the 53 individual IRPs and associated resources, along with the Competency Documents, Task Lists, and Question Matrix that together establish the framework for the training program. In addition, the Maintenance & Repair Committee determined that inspectors/mechanics need at least 480 hours of training on the materials discussed above, with approximately one-third of the instruction classroom-based and approximately two-thirds of the instruction laboratory/hands-on based. FMCSA believes that an individual who successfully completes a training program consistent with the IANA IRPs and associated requirements will possess the skills and knowledge to be a highly proficient and efficient inspector, without the need to have a minimum of 1 year of training or experience or a combination thereof. FMCSA agrees that the establishment of recommended inspection and repair practices and training guidelines through a program based on the IANA IRPs and associated requirements will have a positive impact on the safety and roadworthiness of IME, and by extension, the traveling public.

FMCSA acknowledges the commenters who did not support the IANA application, many of whom simply stated that they believe the requirement for individuals to have at least one year of experience and/or training is the minimum needed to ensure that those individuals have the necessary skills to properly conduct inspections of intermodal equipment. While these commenters contend that eliminating the 1-year training and experience requirement will result in unqualified individuals being able to conduct inspections of intermodal equipment, none presented any specific concerns regarding the detailed and comprehensive IANA IRPs or associated requirements developed by the IANA IRP Mechanics Training Task Force. As noted above, and based on a review of the comprehensive materials that have been developed by IANA following a detailed analysis of FMCSA intermodal equipment inspection data, FMCSA believes that a performance-based approach to training can be as effective as, if not more so than, training that is strictly time-based.

Terms and Conditions for the Exemption

The Agency hereby grants the exemption for a 5-year period, beginning August 18, 2020 and ending August 18, 2025. During the temporary exemption period, individuals who successfully complete a training program consistent with (1) a set of 53 IRPs that have been developed by IANA and (2) the Competency Documents, Task Lists, and Question Matrices that have been developed by IANA for each of the 53 IRPs, and that have completed a minimum of 480 hours of training on those materials will be considered to be (1) a qualified inspector for the purpose of conducting periodic (annual) inspections of IME under 49 CFR 396.17, and (2) a qualified brake inspector under 49 CFR 396.25 for the purpose of conducting brake system inspection, maintenance, service, or repair of IME. FMCSA emphasizes that the exemption is limited to individuals performing periodic inspections of, and brake system inspection, maintenance, service, or repair of, IME, and does not eliminate the requirement under §§ 396.19(a)(3)(ii) and 396.25(d)(3)(ii) that individuals have at least 1 year of training or experience or a combination thereof to be qualified to conduct periodic inspections of or brake system inspection, maintenance, service, or repair on commercial vehicles other than IME.

The exemption will be valid for 5 years unless rescinded earlier by FMCSA. The exemption will be rescinded if: (1) Individuals, motor carriers, or intermodal equipment providers (IEP) fail to comply with the terms and conditions of the exemption; (2) the exemption has resulted in a lower level of safety than was maintained before it was granted; or (3) continuation of the exemption would not be consistent with the goals and objectives of 49 U.S.C. 31136(e) and 31315(b).

Interested parties possessing information demonstrating that periodic inspections or brake system inspection, maintenance, service, or repair of IME conducted by inspectors that have been determined to be qualified under the terms and conditions of this exemption do not result in the requisite statutory level of safety should immediately notify FMCSA. The Agency will evaluate any such information and, if safety is being compromised or if the continuation of the exemption is not consistent with 49 U.S.C. 31136(e) and 31315(b), will take immediate steps to revoke the exemption.

Preemption

In accordance with 49 U.S.C. 31313(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

James A. Mullen,
Deputy Administrator.

[FR Doc. 2020-17957 Filed 8-17-20; 8:45 am]

BILLING CODE 4910-EX-P